DEPARTMENT OF AGRICULTURE

Agricultural Marketing Service

7 CFR Part 201

[Docket No. LS-00-05-610 REVIEW]

Federal Seed Act Regulations; Section 610 Review

AGENCY: Agricultural Marketing Service. USDA.

ACTION: Notice of review and request for comments.

SUMMARY: This action announces the Agricultural Marketing Service (AMS) review of the Federal Seed Act Regulations, under the criteria contained in section 610 of the Regulatory Flexibility Act (RFA).

DATES: Written comments on this notice of review must be received by May 9, 2000.

ADDRESSES: Interested persons are invited to submit written comments concerning this notice of review. Comments must be sent to Richard C. Payne, Chief, Seed Regulatory and Testing Branch, Livestock and Seed Program, AMS, Room 209, Building 306, BARC-E., Beltsville, Maryland 20705-2325; Telephone (301) 504-9430; Fax (301) 504-8098; or E-mail Richard.Payne2@usda.gov. All comments should reference the docket number and date and page number of this issue of the Federal Register and will be made available for public inspection at the Seed Regulatory and Testing Branch during regular business hours.

FOR FURTHER INFORMATION CONTACT: Richard C. Payne, Chief, Seed Regulatory and Testing Branch, Livestock and Seed Program, AMS, USDA, Room 209, Building 306, BARC-East, Beltsville, Maryland 20725-2325; telephone: (301) 504-9237; Fax: (301) 504-8098; E-mail: Richard.Payne2@usda.gov.

SUPPLEMENTARY INFORMATION: The Federal Seed Act Regulations (7 CFR part 201) regulate the labeling of agricultural and vegetable seed in interstate commerce. The regulations are effective under the Federal Seed Act of 1939 (FSA), as amended (7 U.S.C. 1551 et seq.). The regulations were last amended by a final rule published in the Federal Register on January 11, 2000 (64 FR 1704).

AMS published in the Federal Register (63 FR 8014; February 18, 1999), its plan to review certain regulations, including the Federal Seed Act Regulations, under criteria contained in section 610 of the Regulatory Flexibility Act (FRA; 5 U.S.C. 601-612). Because many AMS regulations impact small entities, AMS decided, as a matter of policy, to review certain regulations which, although they may not meet the threshold requirement under section 610 of the RFA, warrant review. The February 18 notice stated that AMS would list the regulations to be reviewed in AMS? regulatory agenda which is published in the Federal Register as part of the Unified Agenda. However, after further consideration, AMS has decided to announce the reviews in the Federal Register separate from the Unified Agenda. Accordingly, this notice and request for comments is made for the Federal Seed Act Regulations.

The purpose of the review will be to determine whether the Federal Seed Act Regulations should be continued without change, amended, or rescinded (consistent with the objectives of the FSA) to minimize the impacts on small entities. In conducting this review, AMS will consider the following factors: (1) The continued need for the regulations; (2) the nature of complaints or comments received from the public concerning the regulations; (3) the complexity of the regulations; (4) the extent to which the regulations overlap, duplicate, or conflict with other Federal rules, and, to the extent feasible, with State and local governmental rules; and (5) the length of time since the regulations has been evaluated or the degree to which technology, economic conditions, or other factors have changed in the area affected by the marketing order.

Written comments, view, opinions, and other information regarding the Federal Seed Act Regulations's impact on small businesses are invited.

Dated: March 7, 2000.
Barry L. Carpenter,
Deputy Administrator, Livestock and Seed Program.

[FR Doc. 00-5911 Filed 3-9-00; 8:45 am]

BILLING CODE 3410-02-P